DEPARTMENT OF TRANSPORTATION

Federal Aviation Administration

14 CFR Part 71

[Docket No. FAA-2021-0276; Airspace Docket No. 21-ACE-1]

RIN 2120-AA66

Proposed Amendment, Establishment, and Revocation of Multiple Air Traffic Service (ATS) Routes in the Vicinity of Neosho, MO

AGENCY: Federal Aviation Administration (FAA), DOT.

ACTION: Notice of proposed rulemaking (NPRM).

SUMMARY: This action proposes to amend Jet Route J-181 and VHF Omnidirectional Range (VOR) Federal airways V-13, V-14, V-15, and V-307; establish Area Navigation (RNAV) routes T-411 and T-413; and remove VOR Federal airway V-506. The FAA is proposing this action due to the planned decommissioning of the VOR portion of the Neosho, MO (EOS), VOR/Distance Measuring Equipment (VOR/DME) navigation aid (NAVAID). The Neosho VOR is being decommissioned in support of the FAA's VOR Minimum Operational Network (MON) program.

DATES: Comments must be received on or before June 7, 2021.

ADDRESSES: Send comments on this proposal to the U.S. Department of Transportation, Docket Operations, 1200 New Jersey Avenue SE, West Building Ground Floor, Room W12-140, Washington, DC 20590; telephone: 1(800) 647-5527, or (202) 366-9826. You must identify FAA Docket No. FAA-2021-0276; Airspace Docket No. 21-ACE-1 at the beginning of your comments. You may also submit comments through the internet at http://www.regulations.gov.

FAA Order 7400.11E, Airspace Designations and Reporting Points, and subsequent amendments can be viewed online at http://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the National Airspace System (NAS) as necessary to preserve the safe and efficient flow of air traffic.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2021-0276; Airspace Docket No. 21-ACE-1) and be submitted in triplicate to the Docket Management Facility (see ADDRESSES section for address and phone number). You may also submit comments through the internet at http://www.regulations.gov.

Commenters wishing the FAA to acknowledge receipt of their comments on this action must submit with those comments a self-addressed, stamped postcard on which the following statement is made: “Comments to FAA Docket No. FAA-2021-0276; Airspace Docket No. 21-ACE-1.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Operations Support Group, Central Service Center, Federal Aviation Administration, 10101 Hillwood Parkway, Fort Worth, TX, 76177.

Availability and Summary of Documents for Incorporation by Reference

This document proposes to amend FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

Background

The FAA is planning to decommission the Neosho, MO, VOR in January 2022. The Neosho VOR was one of the candidate VORs identified for discontinuance by the FAA's VOR MON program and listed in the Final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082.

Although the VOR portion of the Neosho VOR/DME is planned for decommissioning, the co-located DME portion of the NAVAID is being retained to support NextGen PBN flight procedure requirements.

The air traffic service (ATS) routes effected by the Neosho VOR decommissioning are Jet Route J-181 and VOR Federal airways V-13, V-14, V-15, V-307, and V-506. With the planned decommissioning of the Neosho VOR, the remaining ground-based NAVAID coverage in the area is insufficient to enable the continuity of the affected ATS routes. As such, proposed modifications to J-181, V-13, V-14, V-15, and V-307 would result in gaps in those routes and to V-506 would result in revocation of that airway. To overcome the ATS route gaps and revoked airway, instrument flight rules (IFR) traffic could use portions of adjacent ATS routes, including J-24, J-87, V-63, V-71, V-88, V-131, V-140, V-161, V-190, and V-527, or receive air traffic control (ATC) radar vectors to fly around or through the affected area. Additionally, IFR pilots equipped with RNAV capabilities could also navigate point to point using the existing fixes that would remain in place to support continued operations though the affected area. Visual flight rules (VFR) pilots who elect to navigate via the affected ATS routes could also take advantage of the adjacent ATS routes or ATC services listed previously.

Further, the FAA proposes to establish RNAV routes T-411 and T-413 between the Razorback, AR, VORTAC and Lincoln, NE, VORTAC and between the Razorback, AR, VORTAC and Pierre, SD, VORTAC, respectively. The T-routes would, in part, mitigate the proposed removal of the V-13 segment between the Razorback, AR, VORTAC and the Butler, MO, VORTAC as noted above (T-411) and provide a non-radar route in the absence of Federal airways between the Neosho, MO, VOR/DME and the Salina, KS, VORTAC (T-413). The proposed new T-routes would also provide airspace users equipped with RNAV an en route structure between the Fayetteville, AR, area northward to the Lincoln, NE, area and between the Fayetteville, AR, area northwestward to the Pierre, SD, area. Lastly, the proposed new T-routes would support the FAA's NextGen efforts to modernize the NAS navigation system from a ground-based system to a satellite-based system.

The Proposal

The FAA is proposing an amendment to 14 CFR part 71 to amend Jet Route J-181 and VOR Federal airways V-13, V-14, V-15, and V-307; establish RNAV routes T-411 and T-413; and remove VOR Federal airway V-506 due to the planned decommissioning of the Neosho, MO, VOR. The proposed ATS route actions are described below.

J-181: J-181 currently extends between the Ranger, TX, VOR/Tactical Air Navigation (VORTAC) and the Bradford, IL, VORTAC. The FAA proposes to remove the route segment between the Okmulgee, OK, VOR/DME and the Hallsville, IL, VORTAC. The unaffected portions of the existing route would remain as charted.

V-13: V-13 currently extends between the McAllen, TX, VOR/DME and the Farmington, MN, VORTAC; and between the Duluth, MN, VORTAC and the Thunder Bay, ON, Canada VOR/DME. The airspace within Canada is excluded. The FAA proposes to remove the airway segment between the Razorback, AR, VORTAC and the Butler, MO, VORTAC. The unaffected portions of the existing airway would remain as charted.

V-14: V-14 currently extends between the Chisum, NM, VORTAC and the Flag City, OH, VORTAC; and between the Buffalo, NY, VOR/DME and the Norwich, CT, VOR/DME. The FAA proposes to remove the airway segment between the Tulsa, OK, VORTAC and the Springfield, MO, VORTAC. Additional changes to other portions of the airway have been proposed in two separate NPRMs. The unaffected portions of the existing airway would remain as charted.

V-15: V-15 currently extends between the Navasota, TX, VOR/DME and the Bonham, TX, VORTAC; between the Okmulgee, OK, VOR/DME and the Neosho, MO, VOR/DME; and between the Aberdeen, SD, VOR/DME and the Minot, ND, VOR/DME. The FAA proposes to remove the airway segment between the Okmulgee, OK, VOR/DME and the Neosho, MO, VOR/DME. The unaffected portions of the existing airway would remain as charted.

V-307: V-307 currently extends between the Harrison, AR, VOR/DME and the Omaha, IA, VORTAC. The FAA proposes to remove the airway segment between the Harrison, AR, VOR/DME and the Oswego, KS, VOR/DME. The unaffected portions of the existing airway would remain as charted.

V-506: V-506 currently extends between the Tulsa, OK, VORTAC and the Springfield, MO, VORTAC. The FAA proposes to remove the airway in its entirety.

T-411: T-411 is a proposed new route that would extend between the Razorback, AR, VORTAC and the Lincoln, NE, VORTAC. This T-route would mitigate the loss of the V-13 airway segment proposed to be removed and provide RNAV routing capability from the Fayetteville, AR, area northward to the Lincoln, NE, area.

T-413: T-413 is a proposed new route that would extend between the Razorback, AR, VORTAC and the Pierre, SD, VORTAC. This T-route would provide a non-radar route in the absence of Federal airways between the Neosho, MO, VOR/DME and the Salina, KS, VORTAC, as well as RNAV routing capability from the Fayetteville, AR, area, northwestward to the Pierre, SD, area.

All NAVAID radials listed in the ATS route descriptions below are unchanged and stated in True degrees.

Jet Routes are published in paragraph 2004, VOR Federal airways are published in paragraph 6010(a), and RNAV T-routes are published in paragraph 6011 of FAA Order 7400.11E, dated July 21, 2020, and effective September 15, 2020, which is incorporated by reference in 14 CFR 71.1. The ATS routes listed in this document would be published subsequently in the Order.

FAA Order 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures,” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 2004 Jet Routes.

* * * * *

J-181 [Amended]

From Ranger, TX; to Okmulgee, OK. From Hallsville, MO; INT Hallsville 053° and Bradford, IL, 219° radials; to Bradford.

* * * * *

Paragraph 6010(a) Domestic VOR Federal Airways.

* * * * *

V-13 [Amended]

From McAllen, TX; INT McAllen 060° radial and Corpus Christi, TX, 178° radials; Corpus Christi; INT Corpus Christi 039° and Palacios, TX, 241° radials; Palacios; Humble, TX; Lufkin, TX; Belcher, LA; Texarkana, AR; Rich Mountain, OK; Fort Smith, AR; INT Fort Smith 006° and Razorback, AR, 190° radials; to Razorback. From Butler, MO; Napoleon, MO; Lamoni, IA; Des Moines, IA; Mason City, IA; to Farmington, MN. From Duluth, MN; to Thunder Bay, ON, Canada. The airspace outside the United States is excluded.

* * * * *

V-14 [Amended]

From Chisum, NM; Lubbock, TX; Childress, TX; Hobart, OK; Will Rogers, OK; INT Will Rogers 052° and Tulsa, OK, 246° radials; to Tulsa. From Springfield, MO; Vichy, MO; INT Vichy 067° and St. Louis, MO, 225° radials; St. Louis; Vandalia, IL; Terre Haute, IN; Brickyard, IN; Muncie, IN; to Flag City, OH. From Buffalo, NY; Geneseo, NY; Georgetown, NY; INT Georgetown 093° and Albany, NY, 270° radials; Albany; INT Albany 084° and Gardner, MA, 284° radials; Gardner; to Norwich, CT.

* * * * *

V-15 [Amended]

From Navasota, TX; College Station, TX; Waco, TX; Cedar Creek, TX; to Bonham, TX. From Aberdeen, SD; Bismarck, ND; to Minot, ND.

* * * * *

V-307 [Amended]

From Oswego, KS; Chanute, KS; Emporia, KS; INT Emporia 336° and Pawnee City, NE, 194° radials; Pawnee City; to Omaha, IA.

* * * * *

V-506 [Removed]

* * * * *

Paragraph 6011 United States Area Navigation Routes.

* * * * *

T-411 Razorback, AR (RZC) to Lincoln, NE (LNK) [New]
Razorback, AR (RZC) | VORTAC | (Lat. 36°14′47.14″ N, long. 094°07′17.01″ W)
DROOP, MO | FIX | (Lat. 37°06′09.12″ N, long. 094°26′42.39″ W)
Butler, MO (BUM) | VORTAC | (Lat. 38°16′19.49″ N, long. 094°29′17.74″ W)
Topeka, KS (TOP) | VORTAC | (Lat. 39°08′13.48″ N, long. 095°32′57.01″ W)
Lincoln, NE (LNK) | VORTAC | (Lat. 40°55′25.66″ N, long. 096°44′31.23″ W)
T-413 Razorback, AR (RZC) to Pierre, SD (PIR) [New]
Razorback, AR (RZC) | VORTAC | (Lat. 36°14′47.14″ N, long. 094°07′17.01″ W)
DROOP, MO | FIX | (Lat. 37°06′09.12″ N, long. 094°26′42.39″ W)
Emporia, KS (EMP) | VORTAC | (Lat. 38°17′28.11″ N, long. 096°08′17.22″ W)
Salina, KS (SLN) | VORTAC | (Lat. 38°55′30.50″ N, long. 097°37′16.80″ W)
Grand Island, NE (GRI) | VOR/DME | (Lat. 40°59′02.50″ N, long. 098°18′53.20″ W)
ISTIQ, NE | WP | (Lat. 41°24′52.04″ N, long. 098°24′18.89″ W)
LLUKY, NE | WP | (Lat. 42°29′20.26″ N, long. 098°38′11.44″ W)
MMINI, NE | WP | (Lat. 42°53′07.44″ N, long. 099°37′35.54″ W)
JMBAG, SD | WP | (Lat. 43°30′45.88″ N, long. 100°08′45.77″ W)
Pierre, SD (PIR) | VORTAC | (Lat. 44°23′40.40″ N, long. 100°09′46.11″ W)

Issued in Washington, DC.
George Gonzalez,
Acting Manager, Rules and Regulations Group.

[FR Doc. 2021-08284 Filed 4-21-21; 8:45 am]

BILLING CODE 4910-13-P